DEPARTMENT OF THE INTERIOR

Bureau of Land Management

[L13200000 DS0000 LXSSK1700000 20X LLWYP07000]

Notice of Availability of the Final Supplemental Environmental Impact Statement and Potential Amendment to the Approved Resource Management Plan for the Buffalo Field Office, Wyoming

AGENCY: Bureau of Land Management, Interior.

ACTION: Notice of availability.

SUMMARY: In accordance with the National Environmental Policy Act of 1969, as amended, and the Federal Land Policy and Management Act of 1976, as amended, the Bureau of Land Management (BLM) Wyoming prepared this Final Supplemental Environmental Impact Statement (EIS) for the 2015 Buffalo Field Office Approved Resource Management Plan (RMP). This effort is in response to a United States District Court of Montana opinion and order (Western Organization of Resource Councils, et al. v. BLM; 3/26/2018 and 7/31/2018). By this notice, the BLM is announcing the opening of the protest period.

DATES: To ensure that a protest will be considered, the BLM must receive protests on the Final Supplemental EIS by November 4, 2019.

ADDRESSES: Copies of the Final Supplemental EIS are available at the Buffalo Field Office at 1425 Fort Street, Buffalo, Wyoming 82834, and online at http://go.usa.gov/xP6S3.

All protests on the Final Supplemental EIS must be submitted in writing by any of the following methods:

• Website: http://go.usa.gov/xP6S3.

• Regular Mail: BLM Director (210), Attention: Protest Coordinator, P.O. Box 71383, Washington, DC 20024-1383.

• Overnight Delivery: BLM Director (210), Attention: Protest Coordinator, 20 M Street SE, Room 2134LM, Washington, DC 20003.

FOR FURTHER INFORMATION CONTACT: Thomas (Tom) Bills, RMP Supplemental EIS Project Manager; telephone: 307-684-1133; email: tbills@blm.gov. Persons who use a telecommunications device for the deaf may call the Federal Relay Service (FRS) at 1-800-877-8339 to contact Mr. Bills during normal business hours. The FRS is available 24 hours a day, 7 days a week, to leave a message or question. You will receive a reply during normal business hours.

SUPPLEMENTARY INFORMATION: The 2015 Buffalo Field Office Approved RMP provides a single, comprehensive land use plan that guides management of BLM-administered lands and minerals in the Buffalo Field Office, which include approximately 800,000 acres of BLM surface land and 4.7 million acres of BLM mineral estate in Campbell, Johnson, and Sheridan counties in north-central Wyoming.

Based on the above-referenced court decision, feedback from cooperating agencies and stakeholders, and public scoping, the BLM developed and analyzed a No Action Alternative and an Action Alternative, which are detailed in the Final Supplemental EIS. The alternatives focus solely on the allocation of lands open for leasing BLM-administered coal, in response to the court order.

The No Action Alternative represents the decision area from the 2015 RMP and brings forward all management decisions that precluded coal development in the 2015 RMP. It relies on the decisions from the 2001 coal-screening process that informed the 2015 RMP, but uses an updated 2018 coal production baseline. The BLM also used the 2019 U.S. Energy Information Administration development forecast to project development in the Buffalo Field Office over the 20-year planning period. The No Action Alternative makes available 686,896 acres for consideration of coal leasing, which includes approximately 73.66 billion tons of BLM-administered coal reserves.

The Action Alternative also uses the 2018 coal production baseline and the 2019 U.S. Energy Information Administration development forecast. In addition, the Action Alternative applies new coal screens (as described in 43 CFR 3420.1-4(e)), considers new scientific and GIS data, and evaluates issues identified through internal and public scoping. Based on these factors, the Action Alternative area makes available 455,467 acres for consideration of coal leasing, which includes approximately 52.24 billion tons of BLM-administered coal reserves.

The Proposed Plan is a modification of the Action Alternative that would make 495,251 acres of Federal coal available for consideration for leasing. This area includes all the acreage identified as available under the Action Alternative, as well as 40,847 additional acres that were included under the No Action Alternative. The BLM made this recommendation as a result of public, stakeholder, and cooperating agency input on the Draft Supplemental EIS as well as updated best-available information and special expertise provided by cooperating agencies and the public.

Before including your address, phone number, email address, or other personal identifying information in your comment, you should be aware that your entire comment—including your personal identifying information—may be made publicly available at any time. While you can ask us in your comment to withhold your personal identifying information from public review, the BLM cannot guarantee that it will be able to do so.

(Authority: 43 CFR 1610.2(c), 40 CFR 1506.6)

Duane W. Spencer,
Acting State Director.

[FR Doc. 2019-21646 Filed 10-3-19; 8:45 am]

BILLING CODE 4310-22-P